DEPARTMENT OF HOMELAND SECURITY

Coast Guard

33 CFR Part 165

[Docket No. USCG-2020-0353]

Security Zones, Seattle's Seafair Fleet Week Moving Vessels, Puget Sound, WA

AGENCY: Coast Guard, DHS.

ACTION: Notification of non-enforcement of regulation.

SUMMARY: The Coast Guard will not enforce the security zones for Seattle's Seafair Fleet Week Moving Vessels in Puget Sound, WA in July and August 2020. The Captain of the Port Sector Puget Sound has determined that since the event is cancelled, enforcement of this regulation is not necessary.

DATES: The Coast Guard does not plan to enforce regulations in 33 CFR 165.1333 in July and August 2020.

FOR FURTHER INFORMATION CONTACT: If you have questions about this notification of non-enforcement, call or email CWO2 William E. Martinez, Sector Puget Sound Waterways Management Division, U.S. Coast Guard; telephone 206-217-6051, email SectorPugetSoundWWM@uscg.mil.

SUPPLEMENTARY INFORMATION: The Coast Guard normally enforces the security zones in 33 CFR 165.1333 for the Seattle Seafair Fleet Week moving vessels and parade of ships. This event is held annually during the parade of ships between July 25 and August 14. This year, the event organizers cancelled Seafair and Fleet Week. Therefore, the Coast Guard does not plan to enforce 33 CFR 165.1333, in July and August 2020.

In addition to this notification of non-enforcement in the Federal Register, if the situation changes and the Captain of the Port Sector Puget Sound (COTP) determines that the regulated area needs to be enforced, the COTP will issue a Broadcast Notice to Mariners and provide actual notice of enforcement to any persons in the regulated area.

Dated: June 18, 2020.
L.A. Sturgis,
Captain, U.S. Coast Guard, Captain of the Port Sector Puget Sound.

[FR Doc. 2020-13601 Filed 7-8-20; 8:45 am]

BILLING CODE 9110-04-P